DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project

State Prevention Needs Assessments: Alcohol and Other Drugs—(OMB No. 0930-0185, Extension)—SAMHSA's Center for Substance Abuse Prevention (CSAP) has awarded contracts to eight States in cohorts III and IV of the State Prevention Needs Assessment Program to collect data to assess the nature and extent of substance abuse prevention services needs. The family of prevention needs assessment studies applies a core set of measures, instruments, and methodologies developed and standardized under prior State needs assessment state contracts. These needs assessment studies will permit cross-State comparison of risk and protection variables to assist State services planning and allocation of State Block Grant funds, and will assist Federal response to the Government Performance and Results Act (GPRA).

CSAP will seek an 8-month extension of OMB approval for the Virginia student survey to allow the second administration of the student survey and for completion of the Hawaii Community Resource Assessment survey. The annual response burden for this extension is as follows:

Respondent | Number of respondents | Average number of responses/respondent | Average burden response (hours) | Total burden hours
Currently approved:
Student Survey | 27,120 | 1 | .75 | 20,340
Young Adult Surveys | 5,870 | 1 | .50 | 2,935
Community Resource Assessment Studies | 851 | 1 | 10 | 851
Special Population Studies | 1,800 | 1 | .50 | 900
Current Total | 35,641 |  |  | 25,026
Virginia Student Survey Continuation | 3,400 | 1 | .75 | 2,550
Hawaii Community Resource Assessment | 190 | 1 | 1.00 | 190
New Total | 3,590 |  |  | 2,740

Send comments to Nancy Pearce, SAMHSA Reports Clearance Officer, Room 16-105, Parklawn Building, 5600 Fishers Lane, Rockville, MD 20857. Written comments should be received within 60 days of this notice.

September 12, 2000.
Richard Kopanda,
Executive Officer, SAMHSA.

[FR Doc. 00-23864 Filed 9-15-00; 8:45 am]

BILLING CODE 4162-20-P